ENVIRONMENTAL PROTECTION AGENCY

[EPA-HQ-OEM-2015-0725; FRL-12579-01-OLEM]

Agency Information Collection Activities; Proposed Information Collection Request; Comment Request; Risk Management Program Requirements and Petitions To Modify the List of Regulated Substances Under Section 112(r) of the Clean Air Act (Renewal) EPA ICR 1656.19, OMB Control Number 2050-0144

AGENCY: Environmental Protection Agency (EPA).

ACTION: Notice.

SUMMARY: The Environmental Protection Agency (EPA) is planning to submit an information collection request (ICR), Risk Management Program Requirements and Petitions to Modify the List of Regulated Substances under Section 112(r) of the Clean Air Act (Renewal) (EPA ICR Number 1656.19, OMB Control Number 2050-0144) to the Office of Management and Budget (OMB) for review and approval in accordance with the Paperwork Reduction Act. Before doing so, EPA is soliciting public comments on specific aspects of the proposed information collection as described below. This is a proposed extension of the ICR, which is currently approved through September 30, 2025. This notice allows for 60 days for public comments.

DATES: Comments must be submitted on or before June 16, 2025.

ADDRESSES: Submit your comments, referencing Docket ID Number EPA-HQ-OEM-2015-0725, to EPA online using www.regulations.gov (our preferred method), by email to oira_submission@omb.eop.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: This is a proposed extension of the ICR, which is currently approved through September 30, 2025. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: Information collection for on-site documentation of Risk Management Plans (RMPs) is authorized by Clean Air Act (CAA) sections 112(r)(7)(B)(i) and (ii), which state, “The Administrator shall promulgate reasonable regulations and appropriate guidance to provide . . . for the prevention and detection of accidental releases of regulated substances . . . .” and, “The regulations . . . shall require the owner or operator . . . to prepare and implement a risk management plan to detect and prevent or minimize accidental releases . . .” Information collection for submitting an RMP is authorized under CAA section 112(r)(7)(B)(iii), which states in relevant part, “The, owner or operator of each stationary source . . . shall register a risk management plan . . . with the Administrator before the effective date of the regulations . . . in such form and manner as the Administrator shall, by rule, require . . . and shall be available to the public under section 114(c).” Information collection for on-site documentation and submittal of RMPs also is authorized by CAA section 114(a)(1). State and local authorities use the information in RMPs to modify and enhance their community response plans. The agencies implementing the Risk Management Program use RMPs to evaluate compliance with the Chemical Accident Provisions in 40 CFR part 68 and to identify sources for inspection that may pose significant risks to the community. Citizens may use the information to assess chemical hazards in their communities.

This request for comments relates to the renewal of the existing approved ICR. The burden estimates, numbers and types of respondents, wage rates, and unit and total costs for this ICR renewal will be revised and updated, if needed, based on comments received during the 60-day comment period.

Form numbers: None.

Respondents/affected entities: Stationary sources that manufacture, react, mix, store, or use substances in processes that require equipment designed, constructed, installed, operated, or maintained in specific ways to prevent accidental releases and ensure safe operations.

Respondent's obligation to respond: Mandatory under CAA section 112(r)(7)(B)(iii).

Estimated number of respondents: 14,513 (total).

Frequency of response: Sources are required to register and submit an RMP once every five years unless there are significant changes in the information provided.

Total estimated burden: 667,639 hours (per year). Burden is defined at 5 CFR 1320.03(b).

Total estimated cost: $52,611,420 (per year), which includes $36,792 annual operation & maintenance costs.

Changes in the estimates: There is a decrease of 109,098 hours in the total estimated respondent burden compared with the ICR currently approved by OMB due to two reasons. First, the burden varies from one ICR renewal to the next due to sources' different resubmission and other regulatory deadlines. Therefore, the burden changes each year depending on how many sources must submit their RMP and comply with certain prevention program requirements. Second, the number of regulated sources fluctuates. It is lower than in the previous ICR (12,074 vs.12,341) due to the net change in the number of sources, as well as a lower number of new facilities anticipated to become subject to the RMP requirements during the three-year renewal period.

Shanna Ratnesar-Shumate,
Deputy Director, Office of Emergency Management.

[FR Doc. 2025-06589 Filed 4-16-25; 8:45 am]

BILLING CODE 6560-50-P